DEPARTMENT OF THE INTERIOR

Fish and Wildlife Service

[FWS-R8-R-2009-N264; 80230-1265-0000-S3]

Availability: Final Comprehensive Conservation Plan and Finding of No Significant Impact; Modoc National Wildlife Refuge, Modoc County, CA

AGENCY: Fish and Wildlife Service, Interior.

ACTION: Notice of availability: final comprehensive conservation plan and finding of no significant impact.

SUMMARY: We, the U.S. Fish and Wildlife Service (Service), announce the availability of the Final Comprehensive Conservation Plan (CCP) and Finding of No Significant Impact (FONSI) for Modoc National Wildlife Refuge (NWR). The CCP describes how we will manage the Refuge for the next 15 years.

DATES: The CCP and FONSI are available now. The FONSI was signed On December 15, 2009. Implementation of the CCP may begin immediately.

ADDRESSES: You may view or obtain copies of the final CCP and FONSI/EA by any of the following methods. You may request a hard copy or CD-ROM.

Agency Web site: Download a copy of the document(s) at http://www.fws.gov/modoc.

E-mail: Jackie_Ferrier@fws.gov.

Mail: U.S. Fish and Wildlife Service, Attn: Jackie Ferrier, Sacramento National Wildlife Refuge Complex, 752 County Road 99W, Willows, CA 95988.

In-Person Viewing or Pickup: Call 530-934-2801 to make an appointment during regular business hours at Modoc National Wildlife Refuge, 5364 County Road 115, Alturas, CA 96101.

Local Library or Libraries: The documents are also available for review at the libraries listed under SUPPLEMENTARY INFORMATION.

FOR MORE INFORMATION CONTACT: Steve Clay, Project Leader at Modoc NWR, (530) 233-3572 (telephone) or Jackie Ferrier, Refuge Planner at Sacramento NWR Complex, 752 County Road 99W, Willows, CA 95988, or at (530) 934-2801 (telephone), or Jackie_Ferrier@fws.gov (e-mail).

SUPPLEMENTARY INFORMATION:

Background

The 7,021-acre Modoc National Wildlife Refuge is located southeast of Alturas, California. The Refuge was established in 1960 under the Migratory Bird Conservation Act (16 U.S.C. 715d) and the Refuge Recreation Act (16 U.S.C. 460k-460 K.4). Lands within the Refuge have been set aside for use as an inviolate sanctuary, and other management purposes, for migratory birds, for incidental fish and wildlife-oriented recreational development, for the protection of natural resources, and for the conservation of endangered species or threatened species.

Located near the confluence of the north and south forks of the Pit River, the Refuge conserves, protects, and manages a mosaic of freshwater lakes and ponds, seasonal wetlands, irrigated meadows, grasslands, and sagebrush/juniper upland habitats. These habitats provide important resting, feeding, and nesting areas for ducks, geese, and other migratory birds, including the greater sandhill crane.

We announce our decision and the availability of the FONSI for the final CCP in accordance with National Environmental Policy Act (NEPA) (40 CFR 1506.6(b)) requirements. We completed a thorough analysis of impacts on the human environment, which we included in the EA that accompanied the draft CCP.

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Our Draft CCP and Environmental Assessment (EA) were available for a 45-day public review and comment period, which we announced via several methods, including press releases, updates to constituents, and a Federal Register notice (74 FR 28271, June 15, 2009). The Draft CCP/EA identified and evaluated four alternatives for managing the Refuge for the next 15 years. Alternative A was the no-action alternative, which described current Refuge management activities. Alternative B placed greater emphasis on biological resources than on visitor services. Alternative C (the selected alternative) provided an optimal balance of improved biological resource objectives and expanded visitor services opportunities. Alternative D placed greater emphasis on visitor services than on biological resources.

We received 82 comment letters on the Draft CCP and EA during the review period. We incorporated these received comments into the CCP when possible, and we responded to the comments in an appendix to the CCP. In the FONSI, we selected Alternative C, the basis for the CCP, for implementation. The FONSI documents our decision and is based on the information and analysis contained in the EA.

Under the selected alternative, the Refuges will achieve an optimal balance of biological resource objectives and visitor services opportunities. Habitat management and associated biological resource monitoring will be improved. Visitor service opportunities will focus on quality wildlife-dependent recreation distributed throughout the Refuge. Waterskiing on the Refuge-owned portion of Dorris Reservoir will be prohibited. In addition, environmental education, interpretation, wildlife observation, photography, fishing, and hunting programs will be improved and/or expanded.

The selected alternative best meets the Refuge's purposes, vision, and goals; contributes to the Refuge System mission; addresses the significant issues and relevant mandates; and is consistent with principles of sound fish and wildlife management.

Public Availability of Documents

In addition to the methods in ADDRESSES, you can view or obtain documents at the following locations:

• Our Web site: http://www.fws.gov/modoc.

• Public Libraries: during regular library hours, at the following libraries:

Library | Address
Modoc County Library | 212 West Third Street, Alturas, CA 96101.
Cedarville Branch Library | 460 Main Street, Cedarville, CA 96104.
USFWS-NCTC Library | 698 Conservation Way, Shepherdstown, WV 25443.

Dated: June 8, 2010.
Ren Lohoefener,
Regional Director, Pacific Southwest Region, Sacramento, California.

[FR Doc. 2010-14439 Filed 6-15-10; 8:45 am]

BILLING CODE 4310-55-P